DEPARTMENT OF TRANSPORTATION

Federal Aviation Administration

Alaska: Fixed Wing Aircraft External Loads as a Restricted Category Special Purpose Flight Operation

AGENCY: Federal Aviation Administration (FAA), DOT.

ACTION: Notice of availability and request for public comments.

SUMMARY: This notice announces the availability of and request comments on the proposed authorization of Alaska Fixed Wing External Loads (FWEL) as a new restricted category special purpose operation, pursuant to Title 14 of the Code of Federal Regulations (14 CFR) 21.25(b)(7), for operations within the State of Alaska.

DATES: Comments must be received on or before August 6, 2015.

FOR FURTHER INFORMATION CONTACT: Federal Aviation Administration, Design Manufacturing and Airworthiness Division, Design Certification Section (AIR-111), 950 L'Enfant Plaza SW., Washington, DC 20024. ATTN: Mr. Graham Long. Telephone (202) 267-1624, fax 202-267-1813, email to: graham.long@faa.gov.

SUPPLEMENTARY INFORMATION: Pursuant to the Reauthorization Act of 1966 (110 Sat. 3213) SEC. 1205., Regulations Affecting Intrastate Aviation in Alaska, modifying regulations contained in Title 14 of the Code of Federal Regulations, in a manner affecting intrastate aviation in Alaska became law. The Administrator of the Federal Aviation Administration considered the extent to which Alaska is not served by transportation modes other than aviation, established such regulatory distinctions as deemed appropriate.

The Design, Manufacturing and Airworthiness Division (AIR-100) proposes Alaskan Fixed Wing External Loads (FWEL) as a recognized special purpose operation in the restricted category, under Title 14 of the Code of Federal Regulations (14 CFR) § 21.25(b)(7). Alaskan FWEL is the carriage of external loads temporarily attached to small, fixed-wing aircraft operating within the state of Alaska. This approval is issued with the following requirements:

1. Alaskan FWEL must be performed in conjunction with the procedures contained in FAA Notice N8900.272 (or its successor policy).

2. An airplane eligible for the carriage of external loads must:

a. Be a small propeller-driven airplane type-certificated in accordance with 14 CFR part 23 (or its predecessor regulations) in the normal, utility, or acrobatic category, and have a valid airworthiness certificate in that category.

b. Have a maximum certificated takeoff weight of 12,500 pounds or less.

3. The airworthiness limitations issued with the airworthiness certificate must include a requirement for training in the carriage of FWEL. The pilot must have sufficient knowledge of (1) external load attaching methods; (2) the airplane operating limitations issued for the external load operation; and (3) how the external load may affect the flight characteristics of the airplane.

Note: Airplane Handling and Flight Characteristics: When carrying external loads, aerodynamic forces and the weight of an external load change an airplane's handling and flight characteristics. These forces can negatively affect airplane performance (takeoff, climb, cruise, and landing), airplane stability, flight control effectiveness, vibration, fuel consumption, and engine cooling, among other characteristics. The operator must take care when selecting and mounting an external load and also exercise prudence to avoid operation outside the airplane's approved weight & balance envelope, and to avoid aerodynamic effects that make operations unsafe.

4. The aircraft must be operated in accordance with the gross weight and flight envelope limitations when in the restricted category.

5. No passengers are permitted on board when in restricted category. All persons onboard must be flight crew members, flight crew member trainees, persons who perform an essential function in connection with the special purpose operation, or persons necessary to accomplish the work activity directly associated with the special purpose operation.

Issued in Washington, DC, on June 30, 2015.
Susan J.M. Cabler,
Acting Manager, Design, Manufacturing and Airworthiness Division, Aircraft Certification Service.

[FR Doc. 2015-16558 Filed 7-6-15; 8:45 am]

BILLING CODE 4910-13-P